DEPARTMENT OF THE INTERIOR

National Park Service

60-Day Notice of Intention To Request Clearance of Collection of Information; Opportunity for Public Comment

AGENCY: National Park Service, the Department of Interior.

ACTION: Notice and request for comments.

SUMMARY: Under the provisions of the Paperwork Reduction Act of 1995 (44 U.S.C. 3507 et seq.) and 5 CFR part 1320, the National Park Service (NPS) invites public comments on a submitted request to the Office of Management and Budget (OMB) to approve a revision of a currently approved collection (OMB# 1024-0038) associated with the Historic Preservation Fund (HPF) Grants to States program. NPS intends to request a new control number for these information collections in order to separate grant-related information collections from other information collections related to 36 CFR part 61, “Procedures for State, Tribal, and Local Government Historic Preservation Programs.” In addition, some information collections had not been recognized previously as needing OMB approval because they were government-wide requirements using government-wide and OMB-approved forms/systems. Section 101(b) of the National Historic Preservation Act, as amended, (16 U.S.C. 470a(b) specifies the role of States in the national historic preservation program. Section 108 of the Act (16 U.S.C. 470(h) created the Historic Preservation Fund (HPF) to carry out the purposes of the Act. Section 101(e)(1) of the Act (16 U.S.C. 470a(e)) directs the Secretary of the Interior through the National Park Service to “administer a program of matching grants to the States for the purposes of carrying out” the Act. Each year Congress directs NPS to use part of the annual appropriation from the HPF for the State grant program. The purpose of the HPF State grants program is to assist States in carrying out their statutory role in the national historic preservation program. All 59 States, Territories, and the District of Columbia participate in the national historic preservation program. HPF grants to States are program grants; i.e., each State selects its own HPF-eligible activities and projects. Each HPF grant to a State has two years of fund availability. At the end of the first year, NPS employs a “Use or Lose” policy to ensure efficient and effect use of the grant funds. NPS developed the program requirements/information collections in consultation with the States. The requirements/information collections are unchanged since the last approval by OMB.

DATES: To assure that the NPS considers your comments on this notice, NPS must receive the comments on or before September 20, 2004.

Send Comments To: John W. Renaud, Project Coordinator, State, Tribal and Local Programs, Heritage Preservation Services, National Center for Cultural Resources, National Park Service, 1849 C St., NW., Org. Code 2255, Washington, DC 20240-0001, via fax at 202-371-1961, or via e-mail at John_Renaud@nps.gov.

FOR FURTHER INFORMATION CONTACT: John W. Renaud, Project Coordinator, State, Tribal and Local Programs, Heritage Preservation Services, National Center for Cultural Resources, National Park Service, 1849 C St., NW., Org. Code 2255, Washington, DC 20240-0001; via fax at 202-373-1961, via e-mail at John_Renaud@nps.gov, or via telephone at (202) 354-2066.

SUPPLEMENTARY INFORMATION: Title: Historic Preservation Fund (HPF) grants to States.

OMB Number: 1024-xxxx.

Expiration Date of Approval: July 31, 2004.

Type of Request: Revision of a currently approved collection.

Abstract: This information collection has an impact on State governments that wish to apply for Historic Preservation Fund grants. The National Park Service uses the information collections to ensure compliance with the National Historic Preservation Act, as amended (16 U.S.C. 470 et seq.) as well as the government-wide grant requirements that OMB has issued and the Department of the Interior implements through 43 CFR part 12. This information collection also will produce performance data that NPS uses to asses its progress in meeting goals set in Departmental and NPS strategic plans created pursuant to the 1993 Government Performance and Results Act, as amended.

Respondents: State governments.

Estimate of Burden: NPS estimates that the public burden for the HPF-supported State grant program collections of information will average 12 hours per application and 53 hours per grant per year for all of the grant-related collections. The combined total public burden for the HPF State grant program-related information collections would average 65 hours per successful applicant/grantee. These estimates of burden include time for reviewing instructions, searching existing data sources, gathering and maintaining the data needed, and reviewing the collection of information. These burden estimates are a one-year average for the two-year grants.

Estimated Number of Respondents/Record Keepers: NPS estimates that there are 696 responses per year. This is the gross number of responses for all of the elements included in this information collection. The net numbers of applicants and grantees participating in this information collection annually are 59 State applicants and grantees. The frequency of response varies depending upon the activity. Applicants complete the grant application once. This includes the government-wide require application and budget forms (i.e., SF 424), a “Cumulative Products Table” of projected performance in summary format, an “Organization Chart” showing the availability of appropriately qualified staff, and a (major) “Anticipated Activities List”. Successful applicants execute the grant agreement once. During the grant cycle, project report. Throughout the duration of the grant, grantees comply with government-wide recordkeeping requirements. Grantees make requests for payment on an as-needed basis using the U.S. Government's SMARTLINK payment management system. Each year, every State submits an “End of Year Report” that includes the Cumulative Products Table (which compares actual to proposed performance), a “Sources of Nonfederal Matching Share Report,” a “Project/Activity Database Report,” an “Unexpended Carryover Funds Table and Carryover Statement,” and a “Significant Preservation Accomplishments Summary.”

Estimated average number of Applicant responses: 148 annually.

Estimated average gross number of Grantee responses: 548 annually.

Estimated average gross number of responses: 696 annually.

Estimated average burden hours per Applicant response: 3 hours.

Estimated average burden hours per response: 5 hours.

Estimated average annual burden hours per Grantee for all responses: 53 hours.

Estimated total annual average burden hours per respondent: 65 hours.

Estimated Annual Burden on all Respondents: 3,597 hours.

NPS is soliciting comments regarding:

(1) Whether the collection of information is necessary for the proper performance of the functions of NPS, including whether the information will have practical utility;

(2) The accuracy of the burden estimate including the validity of the method and assumptions used;

(3) Ways to enhance the quality, utility, and clarity of the information to be collected;

(4) Ways to minimize the burden of collecting the information, including through the use of appropriate automated, electronic, mechanical, or other forms of information technology; or,

(5) Any other aspect of this collection of information.

NPS will summarize and include in the request for OMB approval all responses to this notice. All comments will also become a matter of public record. You can obtain copies of the information collection from John W. Renaud, Project Coordinator, State, Tribal and Local Programs, Heritage Preservation Services, National Center for Cultural Resources, National Park Service, 1849 C St., NW., Org. Code 2255, Washington, DC 20240-0001.

Dated: July 13, 2004.
Leonard E. Stowe,
Acting, Information Collection Clearance Officer, National Park Service, WAPC.

[FR Doc. 04-16393 Filed 7-19-04; 8:45 am]

BILLING CODE 4312-52-M